DEPARTMENT OF ENERGY

Federal Energy Regulatory Commission

[Docket Nos. CP10-22-000, CP16-18-000, and CP20-77-000]

Magnum Gas Storage, LLC; Notice of Motion To Partially Vacate Certificate Authorization or in the Alternative, Motion To Amend Certificate Authorization

Take notice that on March 4, 2020, Magnum Gas Storage, LLC (Magnum), 3165 E Millrock Dr., #330, Holladay, Utah 84121, filed in Docket No. CP20-77-000, a Motion requesting to partially vacate the certificate authorization for certain facilities approved in the captioned dockets, or in the alternative to amend the certificate authorization. Magnum proposes to delete two natural gas storage caverns, one brine pond and related facilities from the current authorization as they are no longer needed for the authorized storage service. Magnum states that no facilities authorized in the above captioned proceedings have been constructed, or placed into service, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to John Alvarado, CFO/COO, Magnum Development LLC, 3165 E Millrock Dr., #330, Holladay, Utah 84121, telephone: (801) 748-5567, email: jalvarado@magnumdev.com or J. Gordon Pennington, Attorney at Law, Georgetown Place, 1101 30th Street NW, Suite 500, Washington, DC 20007, phone: (202) 625-4330, email: Pennington5@verizon.net.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made with the Commission and must provide a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC 61,167 at 50 (2018).

² 18 CFR 385.214(d)(1).

The Commission strongly encourages electronic filings of comments, protests and interventions in lieu of paper using the eFiling link at http://www.ferc.gov. Persons unable to file electronically should submit an original and 3 copies of the protest or intervention to the Federal Energy regulatory Commission, 888 First Street NE, Washington, DC 20426.

Comment Date: 5:00 p.m. Eastern Time on March 27, 2020.

Dated: March 12, 2020.
Kimberly D. Bose,
Secretary.

[FR Doc. 2020-05566 Filed 3-17-20; 8:45 am]

BILLING CODE 6717-01-P